DEPARTMENT OF HOUSING AND URBAN DEVELOPMENT

[Docket No. FR-5495-N-02]

Notice of Proposed Information Collection: Comment Request; Capacity Building for Sustainable Communities Program: Notice of Funding Availability

AGENCY: Office Sustainable Housing and Communities, HUD.

ACTION: Notice.

SUMMARY: The proposed information collection requirement described below will be submitted to the Office of Management and Budget (OMB) for review, as required by the Paperwork Reduction Act. The Department is soliciting public comments on the subject proposal.

The Capacity Building for Sustainable Communities Program (Program), through a Notice of Funding Availability, will identify intermediary organizations that can provide capacity building support for communities engaged in planning efforts that support community involvement and integrate housing, land use, land cleanup and preparation for reuse, economic and workforce development, transportation, and infrastructure investments.

DATES: Comments Due Date: November 14, 2011.

ADDRESSES: Interested persons are invited to submit comments regarding this proposal. Comments should refer to the proposal by name and/or OMB Control Number (2501-0026) and should be sent to: Reports Liaison Officer, Department of Housing and Urban Development, 451 7th Street, SW., Washington, DC 20410, Room 9120 or the number for the Federal Information Relay Service (1-800-877-8339).

FOR FURTHER INFORMATION CONTACT: Thaddeus Wincek, Office of Sustainable Housing and Communities, Department of Housing and Urban Development, 451 7th Street, SW., Washington, DC 20410, telephone (202) 402-6617 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Capacity Building for Sustainable Communities Notice of Funding Availability.

OMB Control Number, if applicable: 2501-0026.

Description of the need for the information and proposed use: The Capacity Building for Sustainable Communities Program (Program), through a Notice of Funding Availability, will identify intermediary organizations that can provide capacity building support for communities engaged in planning efforts that support community involvement and integrate housing, land use, land cleanup and preparation for reuse, economic and workforce development, transportation, and infrastructure investments.

Agency form numbers, if applicable: HUD-96011, HUD-424CBW, HUD-2880, SF-424, SF-424 Supplement, SF-LLL.

Estimation of the total numbers of hours needed to prepare the information collection including number of respondents, frequency of response, and hours of response: The number of burden hours is 480. The number of respondents is 60, the number of responses is 1, the frequency of response is on occasion, and the burden hours per response is 8.

Status of the proposed information collection: This is a revision of a currently approved collection.

Authority: The Paperwork Reduction Act of 1995, 44 U.S.C., Chapter 35, as amended.

Dated: September 9, 2011.
Shelley Poticha,
Director, Office of Sustainable Housing and Communities, U.S. Department of Housing and Urban Development.

[FR Doc. 2011-23538 Filed 9-13-11; 8:45 am]

BILLING CODE 4210-67-P